DEPARTMENT OF DEFENSE

Department of the Army

Advisory Committee on Arlington National Cemetery Meeting Notice

AGENCY: Department of the Army, DoD.

ACTION: Notice; date correction.

SUMMARY: The notice of an open committee meeting published in the Federal Register on May 18, 2015 (80 FR 28246) has changed the date of the meeting. It will now be held on June 25, 2015 at the same time and location.

FOR FURTHER INFORMATION CONTACT: Ms. Brenda Curfman; Alternate Designated Federal Officer for the Committee, in writing at Arlington National Cemetery, Arlington VA 22211, or by email at brenda.k.curfman.civ@mail.mil, or by phone at 703-614-0998.

Brenda S. Bowen,
Army Federal Register Liaison Officer.

[FR Doc. 2015-13475 Filed 6-3-15; 8:45 am]

BILLING CODE 3710-08-P